DEPARTMENT OF HEALTH AND HUMAN SERVICES

Office of the Secretary

[Document Identifier: 0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate below or any other aspect of the ICR.

DATES: Comments on the ICR must be received on or before July 3, 2017.

ADDRESSES: Submit your comments to Information.CollectionClearance@hhs.gov and Sherrette.Funn@hhs.gov or by calling (202) 795-7714.

SUPPLEMENTARY INFORMATION: When submitting comments or requesting information, please include the document identifier 0990-New-60D for reference.

Information Collection Request Title: Evaluation of the Certified Community Behavioral Health Clinic Demonstration.

Abstract: The Office of the Assistant Secretary for Planning and Evaluation (ASPE) at the U.S. Department of Health and Human Services (HHS) is requesting Office of Management and Budget (OMB) approval for data collection activities to support the evaluation of the Certified Community Behavioral Health Clinic (CCBHC) demonstration program.

In April 2014, Section 223 of the Protecting Access to Medicare Act (PAMA) mandated the CCBHC demonstration to address some of the challenges of access, coordination, financing, and quality facing community mental health centers (CMHCs) across the country. The CCBHC demonstration is intended to improve the availability, quality, and outcomes of CMHC ambulatory care by establishing a standard definition and criteria for CCBHCs, and developing a new payment system that accounts for the total cost of providing comprehensive services to all individuals who seek care. The demonstration also aims to more fully integrate primary and behavioral health care services; ensure more consistent use of evidence-based practices; and, through enhanced standardized reporting requirements, offer an opportunity to assess the quality of care provided by CCBHCs across the country.

Need and Proposed Use of the Information: Section 223 of PAMA requires the Secretary of HHS to provide annual reports to Congress that include an assessment of access to community-based mental health services under Medicaid, the quality and scope of CCBHC services, and the impact of the demonstration on federal and state costs of a full range of mental health services. In addition, PAMA requires the Secretary to provide recommendations regarding continuation, expansion, modifications, or termination of the demonstration no later than December 31, 2021. The data collected under this submission will help ASPE address research questions for the evaluation, and inform the required reports to Congress.

Likely Respondents: Respondents include the following: Certified Community Behavioral Health Clinic demonstration grantees; State Medicaid Officials; State Mental Health Officials; and State Consumer/Family Representatives.

The total annual burden hours estimated for this ICR are summarized in the table below.

Total Estimated Annualized Burden—Hours
Respondents/activity | Number of sites | Number of respondents per site | Responses per respondent | Total responses | Hours per response | Total hour burden
CCBHC site leadership staff | 8 | 1 | 1 | 8 | 2 | 16
CCBHC frontline providers | 8 | 4 | 1 | 24 | 1 | 24
CCBHC care managers | 8 | 2 | 1 | 16 | 1 | 16
CCBHC administrative/finance staff | 8 | 2 | 1 | 16 | 1 | 16
State Medicaid official | 8 | 2 | 3 | 48 | 1 | 48
State mental health official | 8 | 2 | 3 | 48 | 1 | 48
State consumer/family representative | 8 | 2 | 1 | 16 | 1 | 16
CCBHC site leadership staff | 76 | 1 | 2 | 152 | 4 | 608
Total | 132 | 16 | 13 | 178 | 16 | 792

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Assistant Information Collection Clearance Officer.

[FR Doc. 2017-08973 Filed 5-3-17; 8:45 am]

BILLING CODE 4150-05-P